DEPARTMENT OF LABOR

Employment and Training Administration

[TA-W-65,877]

Albion Associates, Inc., High Point, NC; Notice of Termination of Investigation

Pursuant to Section 221 of the Trade Act of 1974, as amended, an investigation was initiated on May 4, 2009 in response to a petition filed on behalf of the workers at Albion Associates, Inc., High Point, North Carolina.

The petitioners have requested that the petition be withdrawn. Consequently, the investigation has been terminated.

Signed at Washington, DC, this 14th day of May 2009.
Richard Church,
Certifying Officer, Division of Trade Adjustment Assistance.

[FR Doc. E9-13916 Filed 6-12-09; 8:45 am]

BILLING CODE 4510-FN-P